DEPARTMENT OF TRANSPORTATION

Federal Motor Carrier Safety Administration

[Docket No. FMCSA-2011-0279]

Agency Information Collection Activities; Approval of a New Information Collection Request: Motorcoach Passenger Survey: Motorcoach Safety and Pre-Trip Safety Awareness and Emergency Preparedness Information

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The FMCSA requests approval of a new ICR titled, “Motorcoach Passenger Survey: Motorcoach Safety and Pre-Trip Safety Awareness and Emergency Preparedness Information (OMB Control Number 2126-XXXX),” to assess the current levels of voluntary compliance by motorcoach operators and to obtain passenger opinions of the implementation of pre-trip safety awareness and emergency preparedness information. On May 15, 2013, FMCSA published a Federal Register notice allowing for a 60-day comment period on the ICR. The Agency received no comments on the notice. In addition, on October 18, 2011, FMCSA published an initial emergency request and 30-day notice, and received no comments.

DATES: Please send your comments by May 19, 2014. OMB must receive your comments by this date in order to act on the ICR.

ADDRESSES: All comments should reference Federal Docket Management System (FDMS) Docket Number FMCSA-2011-0279. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Dee Williams, Chief, Compliance Division, Office of Enforcement and Compliance, (202) 366-1812, dee.williams@dot.gov, MC-PRS, Federal Motor Carrier Safety Administration, 6th Floor, West Building, 1200 New Jersey Ave. SE., Washington, DC 20590. Office hours are from 9 a.m. to 5 p.m., Monday through Friday, except Federal Holidays.

SUPPLEMENTARY INFORMATION: Title: Motorcoach Passenger Survey: Motorcoach Safety and Pre-Trip Safety Awareness and Emergency Preparedness Information.

OMB Control Number: 2126-XXXX.

Type of Request: New information collection.

Respondents: Motorcoach passenger trips.¹

¹ A passenger trip is one passenger from a trip. The number of passenger trips may include one individual taking multiple motorcoach trips per year or even per day.

Estimated Number of Respondents: 3,200 motorcoach passenger trips.

Estimated Time per Response: 10 minutes maximum, with an average of 5 minutes for most respondents.

Form Numbers: Form MCSA-5868, Motorcoach Passenger Survey: Pre-Trip Safety Awareness and Emergency Preparedness Information—To collect motorcoach passengers' responses during one-of-five in-person survey events.

Expiration Date: N/A. This is a new information collection.

Frequency of Response: One-time.

Estimated Total Annual Burden: 533 hours [3,200 respondents × 10 minutes/60 minutes = 533 hours].

Background

Due to several recent fatal motorcoach crashes, the Congress, the Department of Transportation (DOT), specifically the Federal Motor Carrier Safety Administration (FMCSA) and other Federal oversight agencies, including the National Transportation Safety Board (NTSB), have increased their scrutiny over the motorcoach industry and the enforcement of and compliance with the Federal Motor Carrier Safety Regulations (FMCSRs). NTSB issued safety recommendations, H-99-007 and H-99-008, to the Department of Transportation (DOT), on February 26, 1999, requiring motorcoach operators to provide passengers with pre-trip safety awareness information. This recommendation resulted from NTSB's investigation of two motorcoach crashes from the late 1990s which revealed that passengers felt a general sense of panic, not knowing what to do on a motorcoach in the case of an emergency. The intent of the recommendation is to empower passengers to take their personal safety into their own hands in the event of an imminent hazard or emergency situation. The decision was made to implement the recommendation through voluntary adoption and compliance of pre-trip safety briefings in the motorcoach industry.

The goals and objectives of this survey are to assess the current levels of voluntary compliance by motorcoach operators and to obtain passenger opinions of the implementation of the pre-trip safety awareness and emergency preparedness information. The Form MCSA-5868 will be used to survey motorcoach passengers. This information, along with its conclusions, will not serve as a national estimate, but will provide the Agency a general sense of voluntary compliance and suggestions for improvement. FMCSA will use the information to determine whether further evaluation is needed to support future program, policy, and regulatory initiatives. As appropriate, the information will be presented to NTSB and Congress, while also contributing to the general literature regarding practices for improving motorcoach safety in the United States.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on: April 7, 2014.
G. Kelly Leone,
Associate Administrator, Office of Research and Information Technology and Chief Information Officer.

[FR Doc. 2014-08872 Filed 4-17-14; 8:45 am]

BILLING CODE 4910-EX-P